INTERNATIONAL TRADE COMMISSION

[Investigation Nos. 701-TA-560 and 731-TA-1320 (Final)]

Carbon and Alloy Steel Cut-to-Length Plate From China

Determination

On the basis of the record ¹ developed in the subject investigations, the United States International Trade Commission (“Commission”) determines, pursuant to the Tariff Act of 1930 (“the Act”), that an industry in the United States is materially injured by reason of imports of carbon and alloy steel cut-to-length plate from China, provided for in subheadings 7208.40.30, 7208.51.00, 7208.52.00, 7211.13.00, 7211.14.00, 7225.40.11, 7225.40.30, 7226.20.00, and 7226.91.50 of the Harmonized Tariff Schedule of the United States, that have been found by the Department of Commerce (“Commerce”) to be sold in the United States at less than fair value (“LTFV”) and subsidized by the government of China.

¹ The record is defined in sec. 207.2(f) of the Commission's Rules of Practice and Procedure (19 CFR 207.2(f)).

Background

The Commission, pursuant to section 735(b) of the Act (19 U.S.C. 1673d(b)), instituted these investigations effective April 8, 2016, following receipt of petitions filed with the Commission and Commerce by ArcelorMittal USA LLC (Chicago, Illinois), Nucor Corporation (Charlotte, North Carolina), and SSAB Enterprises, LLC (Lisle, Illinois). The Commission scheduled the final phase of the investigations following notification of a preliminary determination by Commerce that imports of carbon and alloy steel cut-to-length plate from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of October 12, 2016 (81 FR 70440). The hearing was held in Washington, DC, on November 30, 2016, and all persons who requested the opportunity were permitted to appear in person or by counsel.

The Commission made these determinations pursuant to section 735(b) of the Act (19 U.S.C. 1673d(b)). It completed and filed its determinations in these investigations on March 13, 2017. The views of the Commission are contained in USITC Publication 4675 (March 2017), entitled Carbon and Alloy Cut-to-Length Plate From China: Investigation Nos. 701-TA-560 and 731-TA-1320 (Final).

By order of the Commission.
Issued: March 13, 2017.
Lisa R. Barton,
Secretary to the Commission.

[FR Doc. 2017-05315 Filed 3-16-17; 8:45 am]

BILLING CODE 7020-02-P